DEPARTMENT OF TRANSPORTATION

National Highway Traffic Safety Administration

[Docket No. NHTSA-2006-25687]

Annual List of Defect and Noncompliance Decisions Affecting Nonconforming Imported Vehicles

AGENCY: National Highway Traffic Safety Administration (NHTSA), DOT.

ACTION: Annual list of defect and noncompliance decisions affecting nonconforming vehicles imported by registered importers.

SUMMARY: This document contains a list of vehicles recalled by their manufacturers during Calendar Year 2005 (January 1, 2005 through December 31, 2005) to correct a safety-related defect or a noncompliance with an applicable Federal motor vehicle safety standard (FMVSS). The listed vehicles are those that NHTSA has decided are substantially similar to vehicles imported into the United States that were not originally manufactured and certified to conform to all applicable FMVSS. The registered importers of those nonconforming vehicles are required to provide their owners with notification of, and a remedy for, the defects or noncompliances for which the listed vehicles were recalled.

FOR FURTHER INFORMATION CONTACT: Coleman Sachs, Office of Vehicle Safety Compliance, NHTSA (202-366-3151).

SUPPLEMENTARY INFORMATION: Under 49 U.S.C. 30141(a)(1)(A), a motor vehicle that was not originally manufactured to conform to all applicable Federal motor vehicle safety standards (FMVSS) shall be refused admission into the United States unless NHTSA has decided that the motor vehicle is substantially similar to a motor vehicle of the same model year that was originally manufactured for importation into and sale in the United States and certified under 49 U.S.C. 30115. Once NHTSA decides that a nonconforming vehicle is eligible for importation, it may be imported by a person who is registered with the agency pursuant to 49 U.S.C. 30141(c). Before releasing the vehicle for use on public streets, roads, or highways, the registered importer must certify to NHTSA, pursuant to 49 U.S.C. 30146(a), that the vehicle has been brought into conformity with all applicable FMVSS.

If a vehicle originally manufactured for importation into and sale in the United States is decided to contain a defect related to motor vehicle safety, or not to comply with an applicable FMVSS, 49 U.S.C. 30147(a)(1)(A) provides that the same defect or noncompliance is deemed to exist in any nonconforming vehicle that NHTSA has decided to be substantially similar and for which a registered importer has submitted a certificate of conformity to the agency. Under 49 U.S.C. 30147(a)(1)(B), the registered importer is deemed to be the nonconforming vehicle's manufacturer for the purpose of providing notification of, and a remedy for, the defect or noncompliance.

To apprise registered importers of the vehicles for which they must conduct a notification and remedy (i.e., “recall”) campaign, 49 U.S.C. 30147(a)(2) requires NHTSA to publish in the Federal Register notice of any defect or noncompliance decision that is made with respect to substantially similar U.S. certified vehicles. Annex A contains a list of all such decisions that were made during Calendar Year 2005. The list identifies the Recall Number that was assigned to the recall by NHTSA after the agency received the manufacturer's notification of the defect or noncompliance under 49 CFR Part 573. After December 31, 2006, NHTSA will publish a comparable list of all defect and noncompliance decisions affecting nonconforming imported vehicles that are made during the current calendar year.

Under 49 U.S.C. 30120(a), a manufacturer may remedy a safety-related defect or noncompliance in a motor vehicle by repairing the vehicle, replacing the vehicle with an identical or reasonably equivalent vehicle, or by refunding the purchase price, less a reasonable allowance for depreciation. For each of the vehicles listed, the manufacturer elected to remedy the defect or noncompliance by repair, and not by replacing the vehicle or by refunding the purchase price.

Authority: 49 U.S.C. 30147(a)(2); delegations of authority at 49 CFR 1.50 and 501.8.

Issued on: August 24, 2006.
Claude H. Harris,
Director, Office of Vehicle, Safety Compliance.

Annex A

Calendar Year 2005 Recalls Affecting Vehicles Imported by Registered Importers
Make | Model | Model year | NHTSA recall No.
ACURA | MDX | 2001 | 05V385000
ACURA | MDX | 2002 | 05V385000
ACURA | TL | 1999 | 05V025000
ACURA | TL | 2000 | 05V025000
ASTON MARTIN | VANQUISH | 2002 | 04V538000
ASTON MARTIN | VANQUISH | 2003 | 04V538000
BMW | X5 | 2006 | 05V504000
BUICK | RENDEZVOUS | 2004 | 05V157000
CADILLAC | CTS | 2004 | 05V024000
CADILLAC | ESCALADE | 2003 | 05V163000
CADILLAC | ESCALADE | 2004 | 05V163000
CADILLAC | ESCALADE | 2005 | 05V055000
CADILLAC | ESCALADE | 2005 | 05V163000
CHEVROLET | ASTRO | 2001 | 05V099000
CHEVROLET | ASTRO | 2002 | 05V099000
CHEVROLET | AVALANCHE | 2002 | 05V379000
CHEVROLET | AVALANCHE | 2003 | 05V163000
CHEVROLET | AVALANCHE | 2004 | 05V043000
CHEVROLET | AVALANCHE | 2004 | 05V163000
CHEVROLET | CAVALIER | 2003 | 04V524000
CHEVROLET | CORVETTE | 2005 | 04V525000
CHEVROLET | CORVETTE | 2005 | 05V455000
CHEVROLET | CORVETTE | 2006 | 05V455000
CHEVROLET | EXPRESS | 2004 | 05V043000
CHEVROLET | MALIBU | 2003 | 04V528000
CHEVROLET | SILVERADO | 1999 | 05V161000
CHEVROLET | SILVERADO | 1999 | 05V379000
CHEVROLET | SILVERADO | 2000 | 05V005000
CHEVROLET | SILVERADO | 2000 | 05V161000
CHEVROLET | SILVERADO | 2000 | 05V379000
CHEVROLET | SILVERADO | 2001 | 05V161000
CHEVROLET | SILVERADO | 2001 | 05V379000
CHEVROLET | SILVERADO | 2002 | 05V161000
CHEVROLET | SILVERADO | 2002 | 05V379000
CHEVROLET | SILVERADO | 2003 | 05V161000
CHEVROLET | SILVERADO | 2003 | 05V163000
CHEVROLET | SILVERADO | 2004 | 05V043000
CHEVROLET | SILVERADO | 2004 | 05V161000
CHEVROLET | SILVERADO | 2004 | 05V163000
CHEVROLET | SILVERADO | 2005 | 05V018000
CHEVROLET | SILVERADO | 2005 | 05V043000
CHEVROLET | SILVERADO | 2005 | 05V055000
CHEVROLET | SILVERADO | 2005 | 05V161000
CHEVROLET | SILVERADO | 2005 | 05V163000
CHEVROLET | SILVERADO | 2005 | 05V455000
CHEVROLET | SILVERADO | 2006 | 05V455000
CHEVROLET | SUBURBAN | 2000 | 05V005000
CHEVROLET | SUBURBAN | 2000 | 05V155000
CHEVROLET | SUBURBAN | 2000 | 05V379000
CHEVROLET | SUBURBAN | 2001 | 05V155000
CHEVROLET | SUBURBAN | 2001 | 05V379000
CHEVROLET | SUBURBAN | 2002 | 05V379000
CHEVROLET | SUBURBAN | 2003 | 05V163000
CHEVROLET | SUBURBAN | 2004 | 05V043000
CHEVROLET | SUBURBAN | 2004 | 05V163000
CHEVROLET | TAHOE | 2000 | 05V379000
CHEVROLET | TAHOE | 2001 | 05V379000
CHEVROLET | TAHOE | 2002 | 05V379000
CHEVROLET | TAHOE | 2003 | 05V163000
CHEVROLET | TAHOE | 2004 | 05V163000
CHEVROLET | TAHOE | 2005 | 05V055000
CHEVROLET | TAHOE | 2005 | 05V103000
CHEVROLET | TAHOE | 2005 | 05V163000
CHEVROLET | TRAILBLAZER | 2003 | 05V198000
CHEVROLET | TRAILBLAZER | 2004 | 05V198000
CHEVROLET | UPLANDER | 2005 | 05V061000
CHEVROLET | UPLANDER | 2005 | 05V287000
CHEVROLET | VENTURE | 1997 | 04V597000
CHEVROLET | VENTURE | 1998 | 04V597000
CHEVROLET | VENTURE | 1999 | 04V597000
CHEVROLET | VENTURE | 2000 | 04V597000
CHEVROLET | VENTURE | 2001 | 04V597000
CHEVROLET | VENTURE | 2002 | 04V597000
CHEVROLET | VENTURE | 2003 | 04V597000
CHEVROLET | VENTURE | 2004 | 04V597000
CHEVROLET | VENTURE | 2005 | 04V597000
CHRYSLER | 300 | 2005 | 05V460000
CHRYSLER | PACIFICA | 2005 | 05V066000
CHRYSLER | TOWN AND COUNTRY | 2001 | 04V531000
DODGE | CARAVAN | 2001 | 04V531000
DODGE | CARAVAN | 2002 | 04V531000
DODGE | CARAVAN | 2003 | 05V134000
DODGE | DURANGO | 2005 | 05V034000
DODGE | DURANGO | 2005 | 05V460000
DODGE | GRAND CARAVAN | 2001 | 04V531000
DODGE | GRAND CARAVAN | 2002 | 04V531000
FORD | BRONCO | 1994 | 05V388000
FORD | BRONCO | 1995 | 05V388000
FORD | BRONCO | 1996 | 05V388000
FORD | CROWN VICTORIA | 1997 | 05V086000
FORD | CROWN VICTORIA | 2003 | 05V206000
FORD | CROWN VICTORIA | 2004 | 05V206000
FORD | CROWN VICTORIA | 2005 | 05V206000
FORD | CROWN VICTORIA | 2005 | 05V518000
FORD | E-250 | 2006 | 05V520000
FORD | E-350 | 2006 | 05V520000
FORD | E-250 | 2002 | 04V589000
FORD | E-250 | 2003 | 04V589000
FORD | E-250 | 2004 | 04V589000
FORD | E-350 | 2002 | 04V589000
FORD | E-350 | 2003 | 04V589000
FORD | E-350 | 2004 | 04V589000
FORD | E-350 | 2004 | 05V270000
FORD | E-350 | 2005 | 05V270000
FORD | E-450 | 2004 | 05V270000
FORD | ESCAPE | 2001 | 04V602000
FORD | ESCAPE | 2002 | 04V574000
FORD | ESCAPE | 2002 | 04V602000
FORD | ESCAPE | 2003 | 04V574000
FORD | ESCAPE | 2003 | 04V602000
FORD | ESCAPE | 2004 | 04V574000
FORD | ESCAPE | 2004 | 04V602000
FORD | ESCAPE | 2005 | 04V602000
FORD | EXCURSION | 2004 | 05V270000
FORD | EXCURSION | 2005 | 05V270000
FORD | EXPEDITION | 1997 | 05V388000
FORD | EXPEDITION | 1998 | 05V388000
FORD | EXPEDITION | 1999 | 05V388000
FORD | EXPEDITION | 2000 | 05V017000
FORD | EXPEDITION | 2000 | 05V388000
FORD | EXPEDITION | 2001 | 05V388000
FORD | EXPEDITION | 2002 | 05V388000
FORD | EXPEDITION | 2006 | 05V310000
FORD | EXPEDITION | 2006 | 05V520000
FORD | EXPLORER | 2006 | 05V520000
FORD | F-150 | 2006 | 05V520000
FORD | F-150 | 1994 | 05V388000
FORD | F-150 | 1995 | 05V388000
FORD | F-150 | 1996 | 05V388000
FORD | F-150 | 1997 | 05V388000
FORD | F-150 | 1998 | 05V388000
FORD | F-150 | 1999 | 05V388000
FORD | F-150 | 2000 | 05V017000
FORD | F-150 | 2000 | 05V388000
FORD | F-150 | 2001 | 05V388000
FORD | F-150 | 2002 | 05V388000
FORD | F-250 | 1994 | 05V388000
FORD | F-250 | 1995 | 05V388000
FORD | F-250 | 1996 | 05V388000
FORD | F-250 | 1997 | 05V388000
FORD | F-250 | 1998 | 05V388000
FORD | F-250 | 1999 | 05V388000
FORD | F-650 | 2005 | 05V202000
FORD | F-650 | 2005 | 05V415000
FORD | F-750 | 2005 | 05V202000
FORD | F-750 | 2005 | 05V415000
FORD | FOCUS | 2000 | 05V030000
FORD | FOCUS | 2001 | 05V030000
FORD | FOCUS | 2002 | 05V030000
FORD | FOCUS | 2003 | 05V030000
FORD | FOCUS | 2004 | 05V030000
FORD | FOCUS | 2005 | 05V030000
FORD | SUPERCREW | 2001 | 05V017000
FREIGHTLINER | COLUMBIA | 2002 | 05V001000
FREIGHTLINER | CORONADO | 2004 | 05V408000
GMC | ENVOY | 2003 | 05V198000
GMC | ENVOY | 2004 | 05V198000
GMC | SAFARI | 2001 | 05V099000
GMC | SAFARI | 2002 | 05V099000
GMC | SAVANA | 2000 | 05V005000
GMC | SIERRA | 1999 | 05V161000
GMC | SIERRA | 1999 | 05V379000
GMC | SIERRA | 2000 | 05V005000
GMC | SIERRA | 2000 | 05V161000
GMC | SIERRA | 2000 | 05V379000
GMC | SIERRA | 2001 | 05V161000
GMC | SIERRA | 2001 | 05V379000
GMC | SIERRA | 2002 | 05V161000
GMC | SIERRA | 2002 | 05V379000
GMC | SIERRA | 2003 | 05V161000
GMC | SIERRA | 2003 | 05V163000
GMC | SIERRA | 2004 | 05V043000
GMC | SIERRA | 2004 | 05V161000
GMC | SIERRA | 2004 | 05V163000
GMC | SIERRA | 2005 | 05V018000
GMC | SIERRA | 2005 | 05V043000
GMC | SIERRA | 2005 | 05V055000
GMC | SIERRA | 2005 | 05V161000
GMC | SIERRA | 2005 | 05V163000
GMC | SIERRA | 2005 | 05V455000
GMC | W4500 | 2003 | 05V168000
GMC | W5500 | 2003 | 05V168000
GMC | W5500 | 2004 | 05V168000
GMC | YUKON | 2000 | 05V379000
GMC | YUKON | 2001 | 05V379000
GMC | YUKON | 2002 | 05V379000
GMC | YUKON | 2003 | 05V163000
GMC | YUKON | 2004 | 05V163000
GMC | YUKON | 2005 | 05V055000
GMC | YUKON | 2005 | 05V103000
GMC | YUKON | 2005 | 05V163000
GMC | YUKON XL | 2000 | 05V005000
GMC | YUKON XL | 2000 | 05V155000
GMC | YUKON XL | 2000 | 05V379000
GMC | YUKON XL | 2001 | 05V155000
GMC | YUKON XL | 2001 | 05V379000
GMC | YUKON XL | 2002 | 05V379000
HARLEY DAVIDSON | FLSTC | 2002 | 05V151000
HARLEY DAVIDSON | FLSTC | 2003 | 05V151000
HARLEY DAVIDSON | FLSTC | 2004 | 05V151000
HARLEY DAVIDSON | FLSTC | 2005 | 05V151000
HARLEY DAVIDSON | FLSTCI | 2002 | 05V151000
HARLEY DAVIDSON | FLSTCI | 2003 | 05V151000
HARLEY DAVIDSON | FLSTCI | 2004 | 05V151000
HARLEY DAVIDSON | FLSTCI | 2005 | 05V151000
HARLEY DAVIDSON | FLSTF | 2002 | 05V151000
HARLEY DAVIDSON | FLSTF | 2003 | 05V151000
HARLEY DAVIDSON | FLSTF | 2004 | 05V151000
HARLEY DAVIDSON | FLSTF | 2005 | 05V151000
HARLEY DAVIDSON | FLSTFI | 2002 | 05V151000
HARLEY DAVIDSON | FLSTFI | 2003 | 05V151000
HARLEY DAVIDSON | FLSTFI | 2004 | 05V151000
HARLEY DAVIDSON | FLSTFI | 2005 | 05V151000
HARLEY DAVIDSON | FLSTN | 2002 | 05V151000
HARLEY DAVIDSON | FLSTN | 2005 | 05V151000
HARLEY DAVIDSON | FLSTNI | 2005 | 05V151000
HARLEY DAVIDSON | FXDWGI | 2004 | 05V430000
HARLEY DAVIDSON | ROAD KING | 2004 | 04V465000
HARLEY DAVIDSON | SOFTAIL | 2004 | 04V465000
HONDA | ACCORD | 1999 | 05V025000
HONDA | ACCORD | 2000 | 05V025000
HONDA | ACCORD | 2001 | 05V025000
HONDA | ACCORD | 2002 | 05V025000
HONDA | GL1800A | 2002 | 05V010000
HONDA | GL1800A | 2002 | 05V027000
HONDA | ODYSSEY | 2005 | 05V039000
HONDA | ODYSSEY | 2005 | 05V132000
HONDA | ODYSSEY | 2005 | 05V344000
HONDA | PRELUDE | 1997 | 05V025000
HONDA | PRELUDE | 1998 | 05V025000
HONDA | PRELUDE | 1999 | 05V025000
HONDA | PRELUDE | 2000 | 05V025000
HONDA | PRELUDE | 2001 | 05V025000
HONDA | VFR800 | 2002 | 05V010000
HUMMER | H2 | 2004 | 05V043000
HUMMER | H2 | 2004 | 05V163000
HUMMER | H2 | 2005 | 05V043000
HUMMER | H2 | 2005 | 05V163000
HYUNDAI | ELANTRA | 2004 | 05V395000
HYUNDAI | ELANTRA | 2004 | 05V479000
INTERNATIONAL | 4300 | 2006 | 05V297000
INTERNATIONAL | 4400 | 2004 | 04V569000
INTERNATIONAL | 4800 | 1999 | 03V415000
INTERNATIONAL | 4800 | 2000 | 03V415000
INTERNATIONAL | 7400 | 2002 | 05V188000
INTERNATIONAL | 7400 | 2003 | 05V188000
INTERNATIONAL | 7400 | 2005 | 04V569000
INTERNATIONAL | 7400 | 2005 | 05V188000
INTERNATIONAL | 7400 | 2006 | 05V188000
INTERNATIONAL | 7500 | 2002 | 05V188000
INTERNATIONAL | 7500 | 2003 | 05V188000
INTERNATIONAL | 7500 | 2005 | 04V569000
INTERNATIONAL | 7500 | 2005 | 05V188000
INTERNATIONAL | 7500 | 2006 | 05V188000
INTERNATIONAL | 7600 | 2003 | 05V188000
INTERNATIONAL | 7600 | 2004 | 04V569000
INTERNATIONAL | 7600 | 2004 | 05V188000
INTERNATIONAL | 7600 | 2005 | 04V569000
INTERNATIONAL | 7600 | 2005 | 05V188000
INTERNATIONAL | 7600 | 2006 | 05V188000
INTERNATIONAL | 9900I | 2005 | 05V296000
JAGUAR | S-TYPE | 2002 | 04V484000
JAGUAR | S-TYPE | 2003 | 04V484000
JAGUAR | X-TYPE | 2002 | 04V487000
JEEP | WRANGLER | 2005 | 05V460000
KENWORTH | C500 | 2005 | 05V189000
KENWORTH | C500 | 2005 | 05V237000
KENWORTH | T300 | 2005 | 05V417000
KENWORTH | T300 | 2006 | 05V417000
KENWORTH | T600 | 2004 | 04V580000
KENWORTH | T600 | 2004 | 05V189000
KENWORTH | T800 | 2004 | 04V580000
KENWORTH | T800 | 2004 | 05V084000
KENWORTH | T800 | 2004 | 05V189000
KENWORTH | T800 | 2005 | 05V084000
KENWORTH | T800 | 2005 | 05V189000
KENWORTH | T800 | 2005 | 05V237000
KENWORTH | T800 | 2005 | 05V543000
KENWORTH | T800 | 2006 | 05V543000
KENWORTH | W900 | 2005 | 05V084000
KENWORTH | W900 | 2005 | 05V189000
KENWORTH | W900 | 2005 | 05V237000
KIA | RIO | 2001 | 05V159000
KIA | SEDONA | 2002 | 05V013000
KIA | SEDONA | 2003 | 05V013000
KIA | SEDONA | 2003 | 05V232000
KIA | SEDONA | 2003 | 05V329000
KIA | SORENTO | 2003 | 05V353000
LAND ROVER | FREELANDER | 2002 | 04V347000
LAND ROVER | FREELANDER | 2002 | 05V300000
LAND ROVER | FREELANDER | 2004 | 04V347000
LAND ROVER | FREELANDER | 2004 | 05V300000
LAND ROVER | RANGE ROVER | 2006 | 05V502000
LEXUS | LX470 | 1998 | 04V434000
LEXUS | LX470 | 1999 | 04V434000
LEXUS | LX470 | 2000 | 04V434000
LEXUS | LX470 | 2002 | 04V434000
LINCOLN | NAVIGATOR | 1998 | 05V388000
LINCOLN | NAVIGATOR | 1999 | 05V388000
LINCOLN | NAVIGATOR | 2000 | 05V017000
LINCOLN | NAVIGATOR | 2000 | 05V388000
LINCOLN | NAVIGATOR | 2001 | 05V388000
LINCOLN | NAVIGATOR | 2002 | 05V388000
LINCOLN | NAVIGATOR | 2006 | 05V310000
LINCOLN | NAVIGATOR | 2006 | 05V519000
LINCOLN | NAVIGATOR | 2006 | 05V520000
LINCOLN | TOWNCAR | 2005 | 05V518000
MAZDA | TRIBUTE | 2001 | 04V605000
MAZDA | TRIBUTE | 2002 | 04V583000
MAZDA | TRIBUTE | 2002 | 04V605000
MERCEDES BENZ | G55 | 2005 | 05V378000
MERCURY | MARQUIS | 1997 | 05V086000
MINI | COOPER | 2002 | 05V470000
NATIONAL | ISLANDER | 2006 | 05V196000
NISSAN | MURANO | 2003 | 05V319000
OLDSMOBILE | ALERO | 2003 | 04V528000
OLDSMOBILE | BRAVADA | 2003 | 05V198000
OLDSMOBILE | SILHOUETTE | 1997 | 04V597000
OLDSMOBILE | SILHOUETTE | 1998 | 04V597000
OLDSMOBILE | SILHOUETTE | 1999 | 04V597000
OLDSMOBILE | SILHOUETTE | 2000 | 04V597000
OLDSMOBILE | SILHOUETTE | 2001 | 04V597000
OLDSMOBILE | SILHOUETTE | 2002 | 04V597000
OLDSMOBILE | SILHOUETTE | 2003 | 04V597000
OLDSMOBILE | SILHOUETTE | 2004 | 04V597000
PETERBILT | 335 | 2005 | 05V417000
PETERBILT | 335 | 2006 | 05V417000
PETERBILT | 357 | 2004 | 05V189000
PETERBILT | 357 | 2005 | 05V189000
PETERBILT | 378 | 2005 | 05V189000
PETERBILT | 378 | 2005 | 05V543000
PETERBILT | 379 | 2005 | 05V189000
PETERBILT | 387 | 2005 | 05V543000
PLYMOUTH | VOYAGER | 2001 | 04V531000
PONTIAC | GRAND AM | 2003 | 04V528000
PONTIAC | GRAND AM | 2005 | 05V054000
PONTIAC | GRAND PRIX | 2004 | 05V046000
PONTIAC | MONTANA | 1997 | 04V597000
PONTIAC | MONTANA | 1998 | 04V597000
PONTIAC | MONTANA | 1999 | 04V597000
PONTIAC | MONTANA | 2000 | 04V597000
PONTIAC | MONTANA | 2001 | 04V597000
PONTIAC | MONTANA | 2002 | 04V597000
PONTIAC | MONTANA | 2003 | 04V597000
PONTIAC | MONTANA | 2004 | 04V597000
PONTIAC | SUNFIRE | 2003 | 04V524000
PONTIAC | TRANS SPORT | 1999 | 04V597000
PONTIAC | TRANSPORT | 1997 | 04V597000
PONTIAC | TRANSPORT | 1998 | 04V597000
PORSCHE | CAYENNE | 2004 | 04V593000
PORSCHE | CAYENNES | 2003 | 04V593000
STERLING | ACTERRA | 2003 | 05V126000
STERLING | ACTERRA | 2004 | 05V125000
STERLING | ACTERRA | 2004 | 05V126000
STERLING | ACTERRA | 2005 | 05V125000
STERLING | CONDOR | 2003 | 04V401000
STERLING | CONDOR | 2003 | 04V453000
STERLING | LT9500 | 2004 | 04V590000
SUZUKI | GRAND VITARA | 1999 | 05V452000
SUZUKI | GRAND VITARA | 2000 | 05V452000
SUZUKI | GRAND VITARA | 2002 | 05V452000
SUZUKI | GRAND VITARA | 2005 | 05V452000
TOYOTA | 4 RUNNER | 1989 | 05V389000
TOYOTA | 4 RUNNER | 1990 | 05V389000
TOYOTA | 4 RUNNER | 1991 | 05V389000
TOYOTA | 4 RUNNER | 1992 | 05V389000
TOYOTA | 4 RUNNER | 1993 | 05V389000
TOYOTA | 4 RUNNER | 1994 | 05V389000
TOYOTA | 4 RUNNER | 1995 | 05V389000
TOYOTA | 4 RUNNER | 2001 | 05V225000
TOYOTA | 4 RUNNER | 2002 | 05V225000
TOYOTA | CAMRY | 2004 | 04V595000
TOYOTA | CELICA | 2000 | 04V566000
TOYOTA | CELICA | 2001 | 04V566000
TOYOTA | SEQUOIA | 2002 | 05V225000
TOYOTA | SEQUOIA | 2003 | 05V225000
TOYOTA | SIENNA | 2004 | 05V327000
TOYOTA | SIENNA | 2005 | 05V327000
TOYOTA | T100 | 1996 | 05V389000
TOYOTA | TACOMA | 2001 | 05V225000
TOYOTA | TACOMA | 2002 | 05V225000
TOYOTA | TACOMA | 2003 | 05V225000
TOYOTA | TUNDRA | 2002 | 05V225000
TOYOTA | TUNDRA | 2003 | 05V225000
TOYOTA | TUNDRA | 2004 | 05V123000
TOYOTA | TUNDRA | 2004 | 05V225000
TOYOTA | TUNDRA | 2005 | 05V123000
TOYOTA | TUNDRA | 2005 | 05V328000
VOLKSWAGEN | GOLF | 1999 | 05V154000
VOLKSWAGEN | GOLF | 2000 | 04V584000
VOLKSWAGEN | GOLF | 2000 | 05V154000
VOLKSWAGEN | GOLF | 2001 | 04V584000
VOLKSWAGEN | GOLF | 2002 | 04V584000
VOLKSWAGEN | GOLF | 2004 | 04V586000
VOLKSWAGEN | GTI | 1999 | 05V154000
VOLKSWAGEN | GTI | 2000 | 04V584000
VOLKSWAGEN | GTI | 2000 | 05V154000
VOLKSWAGEN | JETTA | 2000 | 04V584000
VOLKSWAGEN | JETTA | 2001 | 04V584000
VOLKSWAGEN | JETTA | 2002 | 04V584000
VOLKSWAGEN | JETTA | 2004 | 04V586000
VOLVO | C70 | 1998 | 04V504000
VOLVO | C70 | 1999 | 04V504000
VOLVO | C70 | 2000 | 04V504000
VOLVO | S70 | 1998 | 04V504000
VOLVO | S70 | 1999 | 04V504000
VOLVO | S70 | 2000 | 04V504000
VOLVO | V70 | 1998 | 04V504000
VOLVO | V70 | 1999 | 04V504000
VOLVO | V70 | 2000 | 04V504000
VOLVO | V70XC | 1999 | 04V504000
VOLVO | V70XC | 2000 | 04V504000
VOLVO | VN | 2000 | 04V457000
WINNEBAGO | VECTRA | 2005 | 04V608000
YAMAHA | XVS11 | 2000 | 05V067000
YAMAHA | XVS11 | 2000 | 05V256000

[FR Doc. E6-14459 Filed 8-29-06; 8:45 am]

BILLING CODE 4910-59-P